DEPARTMENT OF AGRICULTURE

Forest Service

Southwestern Region; Arizona, New Mexico, West Texas, and West Oklahoma New Mexico Collaborative Forest Restoration Program Technical Advisory Panel

AGENCY: Forest Service, USDA.

ACTION: Notice of meeting.

SUMMARY: The New Mexico Collaborative Forest Restoration Program Technical Advisory Panel will meet in Albuquerque, New Mexico, June 24-28, 2002. The purpose of the meeting is to provide recommendations to the Regional Forester, USDA Forest Service Southwestern Region, on which forest restoration grant proposals submitted in response to the Collaborative Forest Restoration Program Request For Proposals best meet the objectives of the Community Forest Restoration Act (Title VI, Pub. L. No. 106-393). The 12 to 15 member panel shall be composed of a Natural Resources Official from the State of New Mexico, two representatives from federal land management agencies, at least one tribal or pueblo representative, at least two independent scientists with experience in forest ecosystem restoration, and equal representation from: conservation interests; local communities; and commodity interests.

DATES: The meeting will be held June 24-28, 2002, beginning at 10 am on Monday, June 24 and ending at approximately 4 pm on Friday, June 28.

ADDRESSES: The meeting will be held at the Wyndham Garden Hotel, 6000 Pan American Freeway NE, Albuquerque, NM 87109.

FOR FURTHER INFORMATION CONTACT: Walter Dunn, at (505) 842-3425, or Angela Sandoval, at (505) 842-3289, Cooperative and International Forestry Staff, USDA Forest Service, 333 Broadway SE, Albuquerque, NM 87102.

SUPPLEMENTARY INFORMATION: The meeting is open to the public. Items to be covered on the agenda include: (1) Review of the requirements of the Federal Advisory Committee Act; (2) review of the bylaws for the panel and the consensus process; (3) project proposal evaluations; and (4) public comment. Council discussion is limited to Panel members and Forest Service staff. Project proponents may provide calcification in response to questions from Panel members during Panel discussions. Issues may be brought to the attention of the panel by submitting written statements to Walter Dunn at the address stated above. Written statements may also be submitted to the panel staff before or after the meeting. Public input sessions will be provided during the meeting. Individuals who submit written statements to Walter Dunn or the panel staff may address the panel during those sessions.

Dated: May 8, 2002.
Lucia M. Turner,
Deputy Regional Forester.

[FR Doc. 02-11965 Filed 5-13-02; 8:45 am]

BILLING CODE 3410-11-M